FEDERAL COMMUNICATIONS COMMISSION

Notice of Public Information Collection(s) Being Reviewed by the Federal Communications Commission, Comments Requested

July 22, 2005.

SUMMARY: The Federal Communications Commission, as part of its continuing effort to reduce paperwork burden, invites the general public and other Federal agencies to take this opportunity to comment on the following information collection(s), as required by the Paperwork Reduction Act (PRA) of 1995, Public Law No. 104-13. An agency may not conduct or sponsor a collection of information unless it displays a currently valid control number. No person shall be subject to any penalty for failing to comply with a collection of information, subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 3, 2005. If you anticipate that you will be submitting comments, but find it difficult to do so within the period of time allowed by this notice, you should advise the contact listed below as soon as possible.

ADDRESSES: You may submit your Paperwork Reduction Act (PRA) comments by email or U.S. postal mail. To submit your comments by email send them to: PRA@fcc.gov. To submit your comments by U.S. mail, mark it to the attention of Leslie F. Smith, Federal Communications Commission, 445 12th Street, SW., Room 1-A804, Washington, DC 20554.

FOR FURTHER INFORMATION CONTACT: For additional information about the information collection(s) send an e-mail to PRA@fcc.gov or contact Leslie F. Smith at 202-418-0217.

SUPPLEMENTARY INFORMATION: OMB Control Number: 3060-0093.

Title: Application for Renewal of Radio Station License for Experimental Radio Service (Part 5), FCC Form 405.

Form Number: FCC Form 405.

Type of Review: Revision of a currently approved collection.

Respondents: Business or other for-profit entities; Not for profit institutions.

Number of Respondents: 243.

Estimated Time per Response: 2.25 hours.

Frequency of Response: On occasion reporting requirement; Third party disclosure.

Total Annual Burden: 546.75 hours.

Total Annual Costs: $13,365.

Privacy Impact Assessment: No impact(s).

Needs and Uses: FCC Form 405 is now being used only by the Experimental Radio Service to apply for renewal of radio stations licenses at the FCC. Section 307(c) of the Communications Act limits the term of radio licenses to ten years and requires that written applications be submitted for renewal. FCC Form 405 is required by 47 CFR part 5 of the Commission's rules.

The FCC Form 405 was previously shared by the Office of Engineering and Technology, the International Bureau and the Wireless Telecommunications Bureau. The Office of Engineering and Technology has made the following changes to FCC Form 405:

(1) On page 1 the title was changed from “Multipoint Distribution Service” to “Experimental Radio Service.” The edition date was changed to July 2005.

(2) On page 2 all references to the Multipoint Distribution Service and WTB were removed and replaced with statements only pertaining to the Experimental Radio Service and OET. A reference to FCC Form 159 was added. The addresses and mailing instructions were amended to those used by the Experimental Licensing Branch. The edition date was changed to July 2005.

(3) On page 3 the title was changed from “Multipoint Distribution Service” to “Experimental Radio Service.” Blocks 2 and 5 were deleted and the statement “Note here any further exceptions not already covered in questions 4 and 5,” in block 6 was deleted. The blocks were then renumbered 1 through 5. The edition date was changed to July 2005.

Federal Communications Commission.
Marlene H. Dortch,
Secretary.

[FR Doc. 05-15132 Filed 8-2-05; 8:45 am]

BILLING CODE 6712-01-P